DEPARTMENT OF COMMERCE

International Trade Administration

A-401-806

Stainless Steel Wire Rod from Sweden: Final Results of Antidumping Duty Administrative Review

AGENCY: Import Administration, International Trade Administration, Department of Commerce.

SUMMARY: On September 7, 2007, the Department of Commerce published the preliminary results of the 2005-2006 administrative review of the antidumping duty order on stainless steel wire rod from Sweden. The review covers one manufacturer/exporter, Fagersta Stainless AB (FSAB), and its affiliates AB Sandvik Materials Technology and Kanthal AB. The period of review (POR) is September 1, 2005, through August 31, 2006.

Based on our analysis of the comments received, we have made one change to the margin calculations. Therefore, the final results differ from the preliminary results. The final weighted-average dumping margin for the reviewed firm is listed below in the section entitled “Final Results of Review.”

EFFECTIVE DATE: March 11, 2008.

FOR FURTHER INFORMATION CONTACT: Brian C. Smith or Gemal Brangman, AD/CVD Operations, Office 2, Import Administration, International Trade Administration, U.S. Department of Commerce, 14th Street and Constitution Avenue, NW, Washington, DC 20230; telephone: (202) 482-1766 or (202) 482-3773, respectively.

SUPPLEMENTARY INFORMATION:

Background

The administrative review covers one manufacturer/exporter: FSAB and its affiliates AB Sandvik Materials Technology and Kanthal AB.¹ The period of review is September 1, 2005, through August 31, 2006.

¹ In the preliminary results of this review, we determined it appropriate to treat FSAB and its affiliates, AB Sandvik Materials Technology and Kanthal AB, as one entity for margin calculation purposes because they met the regulatory criteria for collapsing affiliated producers/exporters. No party objected to this preliminary determination. Therefore, we have continued to treat these affiliated companies as one entity in the final results.

On September 7, 2007, the Department of Commerce (the Department) published the preliminary results of this administrative review of the antidumping duty order on stainless steel wire rod from Sweden. See Stainless Steel Wire Rod from Sweden: Preliminary Results of Antidumping Duty Administrative Review, 72 FR 51411 (September 7, 2007). We invited interested parties to comment on the preliminary results of review.

FSAB filed its case brief on October 9, 2007, and the petitioners² filed their rebuttal brief on October 15, 2007. As no party requested a hearing, the Department did not hold a hearing in this review.

² The petitioners are the following companies: Carpenter Technology Corporation and Charter Specialty Steel.

On December 11, 2007, we extended the time limit for the final results in this review until March 5, 2008. See Notice of Extension of Time Limit for Final Results of Antidumping Duty Administrative Review: Stainless Steel Wire Rod from Sweden, 72 FR 71359 (December 17, 2007).

We have conducted this administrative review in accordance with section 751(a) of the Tariff Act of 1930, as amended (the Act).

Scope of the Order

For purposes of this order, SSWR comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling annealing, and/or pickling and/or descaling, are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire-drawing machines are set up to draw. The range of SSWR sizes normally sold in the United States is between 0.20 inches and 1.312 inches in diameter.

Certain stainless steel grades are excluded from the scope of the order. SF20T and K-M35FL are excluded. The following proprietary grades of Kanthal AB are also excluded: Kanthal A-1, Kanthal AF, Kanthal A, Kanthal D, Kanthal DT, Alkrothal 14, Alkrothal 720, and Nikrothal 40. The chemical makeup for the excluded grades is as follows:

SF20T
Carbon | 0.05 max
Manganese | 2.00 max
Phosphorous | 0.05 max
Sulfur | 0.15 max
Silicon | 1.00 max
Chromium | 19.00/21.00
Molybdenum | 1.50/2.50
Lead | added (0.10/0.30)
Tellurium | added (0.03 min)

K-M35FL
Carbon | 0.015 max
Silicon | 0.70/1.00
Manganese | 0.40 max
Phosphorous | 0.04 max
Sulfur | 0.03 max
Nickel | 0.30 max
Chromium | 12.50/14.00
Lead | 0.10/0.30
Aluminum | 0.20/0.35

Kanthal A-1
Carbon | 0.08 max
Silicon | 0.70 max
Manganese | 0.40 max
Aluminum | 5.30 min, 6.30 max
Iron | balance
Chromium | 20.50 min, 23.50 max

Kanthal AF
Carbon | 0.08 max
Silicon | 0.70 max
Manganese | 0.40 max
Chromium | 20.50 min, 23.50 max
Aluminum | 4.80 min, 5.80 max
Iron | balance

Kanthal A
Carbon | 0.08 max
Silicon | 0.70 max
Manganese | 0.50 max
Chromium | 20.50 min, 23.50 max
Aluminum | 4.80 min, 5.80 max
Iron | balance

Kanthal D
Carbon | 0.08 max
Silicon | 0.70 max
Manganese | 0.50 max
Chromium | 20.50 min, 23.50 max
Aluminum | 4.30 min, 5.30 max
Iron | balance

Kanthal DT
Carbon | 0.08 max
Silicon | 0.70 max
Manganese | 0.50 max
Chromium | 20.50 min, 23.50 max
Aluminum | 4.60 min, 5.60 max
Iron | balance

Alkrothal 14
Carbon | 0.08 max
Silicon | 0.70 max
Manganese | 0.50 max
Chromium | 14.00 min, 16.00 max
Aluminum | 3.80 min, 4.80 max
Iron | balance

Alkrothal 720
Carbon | 0.08 max
Silicon | 0.70 max
Manganese | 0.70 max
Chromium | 12.00 min, 14.00 max
Aluminum | 3.50 min, 4.50 max
Iron | balance

Nikrothal 40
Carbon | 0.10 max
Silicon | 1.60 min, 2.50 max
Manganese | 1.00 max
Chromium | 18.00 min, 21.00 max
Nickel | 34.00 min, 37.00 max
Iron | balance

The subject merchandise is currently classifiable under subheadings 7221.00.0005, 7221.00.0015, 7221.00.0030, 7221.00.0045, and 7221.00.0075 of the Harmonized Tariff Schedule of the United States (HTSUS). Although the HTSUS subheadings are provided for convenience and customs purposes, the written description of the scope of this order is dispositive.

Analysis of Comments Received

All issues raised in the case and rebuttal briefs submitted by the parties to this antidumping duty administrative review are addressed in the “Issues and Decision Memorandum” (Decision Memo) from Stephen J. Claeys, Deputy Assistant Secretary for Import Administration, to David M. Spooner, Assistant Secretary for Import Administration, dated March 5, 2008, which is hereby adopted by this notice. A list of the issues that parties have raised and to which we have responded, all of which are in the Decision Memo, is attached to this notice as an appendix. Parties can find a complete discussion of all issues raised in this review and the corresponding recommendations in this public memorandum which is on file in the Central Records Unit, room 1117 of the main Department building. In addition, a complete version of the Decision Memo can be accessed directly on the Web at http://ia.ita.doc.gov/frn. The paper copy and electronic version of the Decision Memo are identical in content.

Changes from the Preliminary Results

Based on the information submitted and our analysis of the comments received, we have made one change to the margin calculations for FSAB. Specifically, we corrected a clerical error by converting FSAB's constructed value costs from SEK/kg. to USD/lb. in the margin calculations. See Comment 2 of Decision Memo and March 5, 2008, Memorandum from Case Analyst to The File, entitled “Calculation Memorandum for the Final Results for Fagersta Stainless AB” for further details.

Final Results of Review

We determine that the following weighted-average margin percentage exists:

Manufacturer/exporter | Margin (percent)
Fagersta Stainless AB/AB Sandvik Materials Technology/Kanthal AB | 20.34

Assessment Rates

The Department shall determine, and U.S. Customs and Border Protection (CBP) shall assess, antidumping duties on all appropriate entries, in accordance with 19 CFR 351.212(b). The Department will issue appropriate appraisement instructions for the company subject to this review directly to CBP 15 days after publication of these final results of review. In accordance with 19 CFR 351.106(c), we will instruct CBP to assess antidumping duties on all appropriate entries covered by this review if any importer-specific assessment rate calculated in the final results of this review is above de minimis (i.e., is not less than 0.50 percent ad valorem). For entries of subject merchandise made by FSAB on behalf of its U.S. affiliate, FSI, we calculated the importer-specific ad valorem duty assessment rate based on the ratio of the total amount of antidumping duties calculated for the examined sales to the total entered value of those sales. However, for shipments of subject merchandise produced by FSAB and imported by its U.S. affiliate, SMT U.S., where the respondent was unable to provide the entered value, we calculated the importer-specific per-unit duty assessment rate by aggregating the total amount of antidumping duties calculated for the examined sales and dividing this amount by the total quantity of those sales. To determine whether the per-unit duty assessment rate is de minimis, in accordance with the requirement set forth in 19 CFR 351.106(c)(2), we calculated an importer-specific ad valorem ratio based on the estimated entered value.

The Department clarified its “automatic assessment” regulation on May 6, 2003. See Antidumping and Countervailing Duty Proceedings: Assessment of Antidumping Duties, 68 FR 23954 (May 6, 2003) (Assessment Policy Notice). This clarification will apply to entries of subject merchandise during the POR produced by the company included in these final results of review for which the reviewed company did not know the merchandise it sold to the intermediary (e.g., a reseller, trading company, or exporter) was destined for the United States. In such instances, we will instruct CBP to liquidate unreviewed entries at the “All Others” rate if there is no rate for the intermediary involved in the transaction. See Assessment Policy Notice for a full discussion of this clarification.

Cash Deposit Requirements

Pursuant to the Implementation of the Findings of the WTO Panel in US--Zeroing (EC): Notice of Determinations Under Section 129 of the Uruguay Round Agreements Act and Revocations and Partial Revocations of Certain Antidumping Duty Orders, 72 FR 25261, 25263 (May 4, 2007), effective April 23, 2007, we have revoked the antidumping duty order on SSWR from Sweden and accordingly have instructed CBP to discontinue collection of cash deposits of antidumping duties on entries of the subject merchandise.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 751(a)(1) and 777(i) of the Act and 19 CFR 351.221.

Dated: March 5, 2008.
David M. Spooner,
Assistant Secretary for Import Administration.

Appendix-List of Issues

Comment 1: Whether to Include Electroslag Refining As a Model-Matching Criterion

Comment 2: Converting the Unit of Measure of FSAB's Constructed Value Data

[FR Doc. E8-4824 Filed 3-10-08; 8:45 am]

BILLING CODE 3510-DS-S